DEPARTMENT OF TRANSPORTATION

Surface Transportation Board

Notice and Request for Comments

AGENCY: Surface Transportation Board, DOT.

ACTION: 30-day notice of request for approval for extension: Applications for Land-Use-Exemption Permits.

SUMMARY: As part of its continuing effort to reduce paperwork burdens, and as required by the Paperwork Reduction Act of 1995, 44 U.S.C. 3501-3519 (PRA), the Surface Transportation Board (Board) gives notice that it is requesting from the Office of Management and Budget (OMB) approval of an extension of the information collection—Applications for Land-Use-Exemption Permits (for Solid Waste Rail Transfer Facilities)—further described below. The Board previously published a notice about this collection in the Federal Register on April 11, 2014, at 79 FR 20304. That notice allowed for a 60-day public review and comment period. No comments were received.

Pursuant to 49 U.S.C. 10501(c)(2), as amended by the Clean Railroads Act of 2008 (CRA), the Board issued rules in Solid Waste Rail Transfer Facilities, EP 684 (served on March 24, 2011). Under these rules, a person seeking a land-use-exemption permit must file an application including (1) substantial facts and argument as to why a permit is necessary and (2) as required by the National Environmental Policy Act, an environmental report and/or an environmental impact statement.

Under 49 CFR 1155.20, an applicant is required to file a notice of intent to apply for a land-use-exemption permit before filing its application. A suggested form for this notice may be found in Appendix A to part 1155. Further, under 49 CFR 1155.21(e), an application must include a draft Federal Register notice. A suggested form for the draft Federal Register notice may be found at Appendix B to part 1155.

Comments may now be submitted to OMB concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Applications for Land-Use-Exemption Permits.

OMB Control Number: 2140-0018.

STB Form Number: None.

Type of Review: Extension without change.

Respondents: Any applicant seeking a land-use-exemption permit.

Number of Respondents: One.

Estimated Time per Response: 160 hours.

Frequency: On occasion.

Total Burden Hours (annually including all respondents): 160 hours.

Total “Non-hour Burden” Cost: An estimated $200,000 to hire an environmental consultant to work with Board staff on the required environmental report.

Needs and Uses: This collection is needed to develop a record in land-use-exemption-permit proceedings, a process mandated by Congress in the CRA. The Board uses the information in this collection to accurately assess the merits of a permit application.

Retention Period: Information in this report will be maintained on the Board's Web site for a minimum of one year and will be otherwise maintained until transferred to NARA as a permanent record.

DATES: Comments on this information collection should be submitted by July 28, 2014.

ADDRESSES: Written comments should be identified as “Paperwork Reduction Act Comments, Surface Transportation Board, Applications for Land-Use-Exemption Permits.” These comments should be directed to the Office of Management and Budget, Office of Information and Regulatory Affairs, Attention: Patrick Fuchs, Surface Transportation Board Desk Officer, by email at by fax at (202) 395-6974; or by mail to Room 10235, 725 17th Street NW., Washington, DC 20503.

FOR FURTHER INFORMATION CONTACT: For further information regarding the Applications for Land-Use-Exemption Permits, contact Danielle Gosselin at (202) 245-0300 or Gosselind@stb.dot.gov [Federal Information Relay Service (FIRS) for the hearing impaired: (800) 877-8339.]

SUPPLEMENTARY INFORMATION: Under the PRA, a federal agency conducting or sponsoring a collection of information must display a currently valid OMB control number. A collection of information, which is defined in 44 U.S.C. 3502(3) and 5 CFR 1320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: June 17, 2014.
Jeffrey Herzig,
Clearance Clerk.

[FR Doc. 2014-14479 Filed 6-19-14; 8:45 am]

BILLING CODE 4915-01-P